DEPARTMENT OF ENERGY

Office of Arms Control and Nonproliferation; Proposed Subsequent Arrangement

AGENCY: Office of Arms Control and Nonproliferation, Department of Energy.

ACTION: Notice of subsequent arrangement.

SUMMARY: This notice is being issued under the authority of Section 131 of the Atomic Energy Act of 1954, as amended (42 U.S.C. 2160). The Department is providing notice of a proposed “subsequent arrangement” under the Agreement for Cooperation in the Peaceful Uses of Nuclear Energy between the United States and the European Atomic Energy Community (EURATOM) and the Agreement for Cooperation Concerning Civil Uses of Atomic Energy between the United States and Norway.

This subsequent arrangement concerns the retransfer of 400g of U.S.-origin uranium and 100g of U.S.-origin plutonium, in the form of sintered mixed-oxide fuel pellets in sealed tubes, from the Euratom Supply Agency to the Government of Norway for irradiation and analysis. The sintered pellets contain 1.2g of the isotope U-235. The material is currently located at the Institut Transurane, Karlsruke, Germany, and will be shipped to the Institut for Energiteknikk (IFE), Halden, Norway. IFE Halden is a research institute within the fields of nuclear technology, man-machine communication, and energy technology.

In accordance with Section 131 of the Atomic Energy Act of 1954, as amended, we have determined that this subsequent arrangement will not be inimical to the common defense and security.

This subsequent arrangement will take effect no sooner than August 21, 2000.

For the Department of Energy.
Trisha Dedik,
Director, International Policy and Analysis for Arms Control and Nonproliferation, Office of Defense Nuclear Nonproliferation.

[FR Doc. 00-19762 Filed 8-3-00; 8:45 am]

BILLING CODE 6450-01-P